NUCLEAR REGULATORY COMMISSION

[Docket No. 70-27]

Summary of Environmental Assessment and Finding of No Significant Impact for Exemption to Licensed Physician Requirements for BWX Technologies, Inc., Lynchburg, VA

AGENCY: Nuclear Regulatory Commission.

ACTION: Notice of proposed action.

FOR FURTHER INFORMATION CONTACT: Billy Gleaves, Project Manager, Fuel Facility Licensing Directorate, Division of Fuel Cycle Safety and Safeguards, Office of Nuclear Material Safety and Safeguards, U.S. Nuclear Regulatory Commission (NRC), Mail Stop T-8F42, Washington, DC 20852. Telephone: (301) 415-5848; fax number: (310) 415-5955; e-mail: bcg@nrc.gov.

SUPPLEMENTARY INFORMATION:

I. Introduction

The U.S. Nuclear Regulatory Commission (NRC) is considering issuing an exemption to BWX Technologies, Inc. (BWXT), the holder of NRC special nuclear materials License SNM-42. The proposed action would exempt BWXT from certain requirements set forth in 10 CFR 73.46(b) and Part 73 Appendix B. The exemptions would authorize the licensee to allow medical examinations to be given by licensed nurse practitioners authorized to practice medicine by the Commonwealth of Virginia. The exemptions would allow such nurses, in addition to licensed physicians, to give medical examinations that are required prior to allowing personnel to participate in physical fitness tests. The exemptions would be to requirements stated in 10 CFR 73.46(b)(10)(iii) and (iv); 73.46(b)(11)(iii) and (v); 73.46(b)(12)(ii); and Part 73 Appendix B paragraphs I.B.1.b, I.B.2.b, and I.C.

In accordance with the requirements of 10 CFR Part 51 the NRC has prepared an Environmental Assessment (EA) in support of this action. Based on the EA, the NRC has concluded that a Finding of No Significant Impact is appropriate. If approved, the exemption would be issued following the publication of this Notice.

II. EA Summary

As stated above, the staff has prepared an EA in support of the proposed action. The EA contains sensitive information and is not publicly available. The NRC staff has concluded that issuing the proposed exemptions will not result in a significant impact to the environment. The NRC staff concluded that the proposed action will not adversely affect federally listed species or federally designated critical habitat because no federally listed species are known to occur in the project area. The NRC staff found that no historic properties will be affected by the proposed action.

The proposed action does not have a potential to affect the probability or consequences of accidents; the types or amounts of effluents; nor occupational or public radiation exposure. Therefore, there are no significant radiological environmental impacts associated with the proposed action.

III. Finding of No Significant Impact

On the basis of the EA, the NRC has concluded that there are no significant environmental impacts from the proposed action, and has determined that the preparation of an environmental impact statement is not required.

IV. Further Information

Documents related to this action can be accessed on the NRC's Agencywide Document Access and Management System (ADAMS) that provides electronic copies of NRC's public documents. The ADAMS accession number for the Federal Register notice related to this action is: Notice of License Amendment Request of BWX Technologies, Inc., Lynchburg, VA (ML063050294). If you do not have access to ADAMS or if there are problems in accessing the documents located in ADAMS, contact the NRC's Public Document Room (PDR) Reference staff at 800-397-4209, 301-415-4737, or by e-mail to pdr@nrc.gov.

Dated at Rockville, Maryland, this 27th day of November 2006.
For the U.S. Nuclear Regulatory Commission.
Brian Smith,
Acting Chief, Fuel Facility Licensing Directorate, Division of Fuel Cycle Safety, and Safeguards, Office of Nuclear Material Safety, and Safeguards.

[FR Doc. E6-20857 Filed 12-7-06; 8:45 am]

BILLING CODE 7590-01-P